DEPARTMENT OF LABOR

Employment and Training Administration

[TA-W-65,331]

Trueseal Technologies, Barbourville, KY; Notice of Termination of Investigation

In accordance with Section 221 of the Trade Act of 1974, as amended, an investigation was initiated on April 27, 2009, in response to a petition filed by on behalf of workers of Truseal Technologies, Barbourville, Kentucky.

The petitioners have requested that the petition be withdrawn. Consequently, the investigation has been terminated.

Signed in Washington, DC, this 5th day of May, 2009.
Richard Church,
Certifying Officer, Division of Trade Adjustment Assistance.

[FR Doc. E9-13443 Filed 6-8-09; 8:45 am]

BILLING CODE 4510-FN-P